DEPARTMENT OF ENERGY

Federal Energy Regulatory Commission

[Project Nos. 2280-017, 2343-084, 2459-245, 2516-057, 2517-036, 3494-091, 3671-086, 2391-046, 2425-052, and 2509-046]

FirstEnergy Generation, LLC, Allegheny Energy Supply Company, LLC, and Green Valley Hydro, LLC, Seneca Generation, LLC, Lake Lynn Generation, LLC, All Dams Generation, LLC, and PE Hydro Generation, LLC; Notice of Application for Transfer of Licenses, and Soliciting Comments and Motions to Intervene

September 18, 2013.

On September 4, 2013, a transfer of license application was filed to include the following projects:

Project numbers | Transferors | Transferees | Project names | Locations
P-2280-017 | FirstEnergy Generation, LLC | Seneca Generation, LLC | Kinzua Pumped Storage | Allegheny River, Warren County, PA
P-2343-084 | Allegheny Energy Supply Company, L.L.C. | PE Hydro Generation, LLC | Millville | Shenandoah River, Jefferson County, WV
P-2459-245 | Allegheny Energy Supply Company, L.L.C. | Lake Lynn Generation, LLC | Lake Lynn | Cheat River a tributary of the Monongahela River, Monongalia County, WV & Fayette County, PA
P-2516-057 | Allegheny Energy Supply Company, L.L.C. | PE Hydro Generation, LLC | Dam No. 4 Hydro Station | Potomac River, Berkeley and Jefferson counties, WV
P-2517-036 | Allegheny Energy Supply Company, L.L.C. | PE Hydro Generation, LLC | Dam No. 5 Hydro Station | Potomac River, Berkeley County, WV
P-3494-091 | Allegheny Energy Supply Company, L.L.C. | All Dams Generation, LLC | Allegheny Lock & Dam No. 6 | Allegheny River, Armstrong County, PA
P-3671-086 | Allegheny Energy Supply Company, L.L.C. | All Dams Generation, LLC | Allegheny Lock & Dam No. 5 | Allegheny River, Armstrong County, PA
P-2391-046 | Green Valley Hydro, LLC | PE Hydro Generation, LLC | Warren | Shenandoah River, Warren County, VA
P-2425-052 | Green Valley Hydro, LLC | PE Hydro Generation, LLC | Luray and Newport Developments | Shenandoah River, Page County, VA
P-2509-046 | Green Valley Hydro, LLC | PE Hydro Generation, LLC | Shenandoah | Shenandoah River, Page County, VA

Applicants seek Commission approval to transfer the licenses for the above projects from the transferors to the transferees.

Applicants' Contact: For Transferors: Mr. Morgan E. Parke, FirstEnergy Service Company, 76 South Main Street, Akron, OH 44308-1890, (330) 384-4595 and Mr. John A. Whittaker, IV, Winston & Strawn LLP, 1700 K Street NW., Washington, DC 20006-3817, (202) 282-5766. For Transferees: Mr. Scott Carver, LS Power Development, LLC, Two Tower Center, 11th Floor, East Brunswick, NJ 08816, (732) 249-6750 and Mr. James B. Vasile, Davis Wright Tremaine LLP, 1919 Pennsylvania Avenue NW., Suite 800, Washington, DC 20006, (202) 973-4262.

FERC Contact: Patricia W. Gillis (202) 502-8735, patricia.gillis@ferc.gov.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number(s) (P-2280, P-2343, P-2459, P-2516, P-2517, P-3494, P-3671, P-2391, P-2425, or P-2509) in the docket number field to access the document. For assistance, call toll-free 1-866-208-3372.

Dated: September 18, 2013.
Kimberly D. Bose,
Secretary.

[FR Doc. 2013-23172 Filed 9-23-13; 8:45 am]

BILLING CODE 6717-01-P